INTERNATIONAL TRADE COMMISSION

[Investigation No. 337-TA-1152]

Certain Vehicle Security and Remote Convenience Systems and Components Thereof; Commission Determination Not To Review an Initial Determination Terminating the Investigation in Its Entirety Based on a Settlement Agreement; Termination of the Investigation

AGENCY: U.S. International Trade Commission.

ACTION: Notice.

SUMMARY: Notice is hereby given that the U.S. International Trade Commission has determined not to review an initial determination (“ID”) (Order No. 20) of the presiding administrative law judge (“ALJ”) granting the parties' joint motion to terminate the investigation in its entirety based on a settlement agreement.

FOR FURTHER INFORMATION CONTACT: Richard P. Hadorn, Esq., Office of the General Counsel, U.S. International Trade Commission, 500 E Street SW, Washington, DC 20436, telephone (202) 205-3179. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on April 10, 2019, based on a complaint filed by DEI Holdings, Inc. and Directed, LLC, both of Vista, California, and Directed Electronics Canada Inc. of Lachine, Quebec, Canada (collectively, “Complainants”). 84 FR 14395-96 (Apr. 10, 2019). The complaint alleged violations of section 337 of the Tariff Act of 1930, as amended (19 U.S.C. 1337), in the importation into the United States, the sale for importation, or the sale within the United States after importation of certain vehicle security and remote convenience systems and components thereof, by reason of infringement of certain claims of U.S. Patent Nos. 7,191,053 (“the '053 patent”); 7,483,783 (“the '783 patent”); 7,646,285; 7,898,386; and 8,378,800. Id. at 14396. The complaint further alleged that a domestic industry exists. Id. The notice of investigation named as respondents Automotive Data Solutions Inc. of Montreal, Quebec, Canada; Firstech, LLC of Kent, Washington (collectively, “Respondents”); and AAMP of Florida, Inc. (“AAMP”) of Clearwater, Florida. Id. The Office of Unfair Import Investigations was not named as a party. Respondent AAMP was later terminated from the investigation based on a settlement agreement. Order No. 7 (Oct. 3, 2019), as amended by Corrected Order No. 7 (Oct. 4, 2019), not reviewed by Comm'n Notice (Oct. 22, 2019).

On December 10, 2019, Respondents filed (1) a motion for partial termination of the investigation based on Complainants' lack of standing to assert the '053 and '783 patents; and (2) a motion to strike the “Belated Production of the 2006 Astroflex Asset Purchase Agreement and Supplemental Responses to Respondents' Interrogatory No. 23.” On December 23, 2019, Complainants filed oppositions to Respondents' motions. On December 30, 2019, Respondents filed replies in support of their motions.

On January 9, 2020, the ALJ issued an ID (Order No. 18) addressing both of Respondents' motions. That ID (1) granted Respondents' motion for partial termination as to the '053 and '783 patents for lack of standing, ID at 2, 10-11; and (2) denied as moot Respondents' motion to strike “in light of the decision herein to terminate the investigation with respect to the '053 and '783 patents,” id. at 3 n.2.

On January 15, 2020, Complainants filed a motion for reconsideration of the ID (Order No. 18) under Ground Rule 3.12. On January 17, 2020, Complainants also filed a petition for review of the ID, requesting that the Commission remand for a hearing on the '053 and '783 patents. Pet. at 4.

On January 24, 2020, the parties filed a joint motion to terminate the investigation in its entirety based on a settlement agreement.

On January 31, 2020, the ALJ issued the subject ID (Order No. 20) granting the joint motion and terminating the investigation in its entirety. The ID found that the motion complies with Commission Rules, and that “[t]here is no evidence of any . . . adverse effects [on the public interest].” ID at 2 (citations omitted). No petitions for review of the subject ID were filed.

On February 10, 2020, the Commission decided to extend until March 3, 2020, the date for determining whether to review the ALJ's earlier ID (Order No. 18) that terminates the investigation in part based on Complainants' lack of standing to assert certain patents. See Comm'n Notice (Feb. 10, 2020).

The Commission has determined not to review the subject ID. The Commission has also determined that Order No. 18 is moot. The investigation is hereby terminated.

The authority for the Commission's determination is contained in section 337 of the Tariff Act of 1930, as amended (19 U.S.C. 1337), and in Part 210 of the Commission's Rules of Practice and Procedure (19 CFR part 210).

By order of the Commission.
Issued: February 28, 2020.
Lisa Barton,
Secretary to the Commission.

[FR Doc. 2020-04442 Filed 3-3-20; 8:45 am]

BILLING CODE 7020-02-P